DEPARTMENT OF ENERGY

Federal Energy Regulatory Commission

[Docket No. RM16-17-000]

Notice of Technical Workshop: Data Collection for Analytics and Surveillance and Market-Based Rate Purposes

Take notice that on February 27, 2020, staff of the Federal Energy Regulatory Commission (Commission) will hold a technical workshop on the relational database being built in accordance with Order No. 860 (MBR Database).¹ The meeting will take place from 9:00 a.m. to 12:30 p.m. (EST) in the Commission Meeting Room, at 888 First Street NE, Washington, DC 20426. All interested persons are invited to attend. For those unable to attend in person, access to the meeting will be available via webcast.

¹ Data Collection for Analytics and Surveillance and Market-Based Rate Purposes, Order No. 860, 168 FERC ¶ 61,039 (2019).

This workshop provides a forum for dialogue between Commission staff and interested parties to discuss development and implementation of the MBR Database, including the data dictionary, XML, XSD, submission process, and test environment. Staff welcomes suggestions for discussion topics prior to the workshop. Individuals may suggest agenda topics for consideration by emailing mbrdatabase@ferc.gov. An agenda of the meeting will be provided in a subsequent notice.

Due to the nature of the discussion, those interested in participating are encouraged to attend in person. All interested persons (whether attending in person or via webcast) are asked to register at https://www.ferc.gov/whats-new/registration/02-27-20-form.asp. There is no registration fee. Anyone with internet access can listen to the meeting by navigating to www.ferc.gov's Calendar of Events, locating the MBR Data Technical Workshop, and clicking on the link to the webcast. The webcast will allow persons to listen to the technical conference and they may email questions during the meeting to mbrdatabase@ferc.gov.

Commission conferences are accessible under section 508 of the Rehabilitation Act of 1973. For accessibility accommodations, please send an email to accessibility@ferc.gov, call toll free 1-866-208-3372 (voice) or 202-502-8659 (TTY), or send a fax to 202-208-2106 with the required accommodations.

For more information about the technical workshop, please contact Ryan Stertz at (202) 502-6473, or send an email to mbrdatabase@ferc.gov.

Dated: January 22, 2020.
Nathaniel J. Davis, Sr.,
Deputy Secretary.

[FR Doc. 2020-01448 Filed 1-27-20; 8:45 am]

BILLING CODE 6717-01-P